DEPARTMENT OF TRANSPORTATION

Federal Aviation Administration

14 CFR Part 71

[Docket No. FAA-2016-9480; Airspace Docket No. 16-AEA-13]

Amendment of Class D and Class E Airspace; Morgantown, WV

AGENCY: Federal Aviation Administration (FAA), DOT.

ACTION: Final rule.

SUMMARY: This action amends Class E airspace designated as an extension to a Class D surface area by removing the Notice to Airmen (NOTAM) part-time status at Morgantown Municipal Airport-Walter L. Bill Hart Field, Morgantown, WV, and updating the airport's geographic coordinates. Also, this action updates the geographic coordinates of the airport listed in Class D airspace, Class E surface area airspace, and Class E 700 foot airspace. This action enhances the safety and management of instrument flight rules (IFR) operations at the airport.

DATES: Effective 0901 UTC, October 12, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Morgantown Municipal Airport-Walter L. Bill Hart Field, Morgantown, WV, in support of IFR operations at the airport.

History

On April 7, 2017, the FAA published in the Federal Register (82 FR 16958) Docket No. FAA-2016-9480, a notice of proposed rulemaking (NPRM) to amend Class E airspace designated as an extension to a Class D surface area at Morgantown Municipal Airport-Walter L. Bill Hart Field, Morgantown, WV, by removing the NOTAM part-time status of the Class E airspace designated as an extension to a Class D surface area. Also, the geographic coordinates of the airport would be adjusted in the associated Class D and E airspace. Interested parties were invited to participate in this rulemaking effort by submitting written comments on the proposal to the FAA. No comments were received.

This action also makes an editorial change to the associated Class D and E airspace legal descriptions removing the words “(previously called Airport/Facility Directory). Except for this change, the rule is the same as published in the NPRM.

Class D and E airspace designations are published in paragraphs 5000, 6002, 6004, and 6005, respectively, of FAA Order 7400.11A dated August 3, 2016, and effective September 15, 2016, which is incorporated by reference in 14 CFR part 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 amends Class E Airspace designated as an extension to a Class D surface area at Morgantown Municipal Airport-Walter L. Bill Hart Field, Morgantown, WV, by eliminating the NOTAM information from the regulatory text that reads, “This Class E airspace area is effective during the specific dates and time established in advance by Notice to Airmen. The effective date and time will thereafter be continuously published in the Airport/Facility Directory.” This action also amends Class D airspace, Class E surface area airspace, and Class E airspace extending upward from 700 feet or more above the surface by updating the geographic coordinates of the airport to be in concert with the FAA's aeronautical database.

Additionally, this action removes the words “(previously called Airport/Facility Directory)” from the associated Class D and E airspace legal descriptions.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

AEA WV D Morgantown, WV [Amended]

Morgantown Municipal Airport-Walter L. Bill Hart Field, WV

(Lat. 39°38′37′′ N., long. 79°55′03′′ W.)

That airspace extending upward from the surface to and including 3,700 feet MSL within a 4-mile radius of Morgantown Municipal Airport-Walter L. Bill Hart Field. This Class D airspace area is effective during the specific dates and times established in advance by a Notice to Airmen. The effective date and time will thereafter be continuously published in the Chart Supplement.

Paragraph 6002 Class E Surface Area Airspace.

* * * * *

AEA WV E2 Morgantown, WV [Amended]

Morgantown Municipal Airport-Walter L. Bill Hart Field, WV

(Lat. 39°38′37″ N., long. 79°55′03″ W.)

Within a 4-mile radius of Morgantown Municipal Airport-Walter L. Bill Hart Field. This Class E airspace area is effective during the specific dates and times established in advance by a Notice to Airmen. The effective date and time will thereafter be continuously published in the Chart Supplement.

Paragraph 6004 Class E Airspace Designated as an Extension to a Class D Surface Area.

* * * * *

AEA WV E4 Morgantown, WV [Amended]

Morgantown Municipal Airport-Walter L. Bill Hart Field, WV

(Lat. 39°38′37″ N., long. 79°55′03″ W.)

Morgantown VORTAC

(Lat. 39°33′24″ N., long. 79°51′37″ W.)

That airspace extending upward from the surface within 1 mile either side of the Morgantown VORTAC 332° radial extending from the 4-mile radius of Morgantown Municipal Airport-Walter L. Bill Hart Field to the Morgantown VORTAC.

Paragraph 6005 Class E Airspace Areas Extending Upward From 700 Feet or More Above the Surface of the Earth.

* * * * *

AEA WV E5 Morgantown, WV [Amended]

Morgantown Municipal Airport-Walter L. Bill Hart Field, WV

(Lat. 39°38′37″ N., long. 79°55′03″ W.)

Morgantown VORTAC

(Lat. 39°33′24″ N., long. 79°51′37″ W.)

That airspace extending upward from 700 feet above the surface within a 6.5-mile radius of Morgantown Municipal Airport-Walter L. Bill Hart Field, and within 3 miles each side of the Morgantown VORTAC 152° radial extending from the 6.5-mile radius to 8.8 miles southeast of the VORTAC, and within 3 miles west of the Morgantown VORTAC 336° radial clockwise to 3 miles east of Morgantown Municipal Airport-Walter L. Bill Hart Field north localizer course extending from the 6.5-mile radius to 15.1 miles north of the airport.

Issued in College Park, Georgia, on July 10, 2017.
Ryan W. Almasy,
Manager, Operations Support Group, Eastern Service Center, Air Traffic Organization.

[FR Doc. 2017-15286 Filed 7-20-17; 8:45 am]

BILLING CODE 4910-13-P